DEPARTMENT OF ENERGY

Federal Energy Regulatory Commission

18 CFR Parts 35, 131, 154, 157, 250, 281, 284, 300, 341, 342, 344, 346, 347, 348, 375 and 385

[Docket No. RM01-5-000]

Notice of Meeting With North American Energy Standards Board

January 18, 2007.

AGENCY: Federal Energy Regulatory Commission.

ACTION: Notice of Proposed Rulemaking; notice of conference.

SUMMARY: A conference will be held with the North American Energy Standards Board (NAESB) to discuss NAESB's assistance in the process of developing standards for electronic tariff and rate schedules filings in connection with the Notice of Proposed Rulemaking (NOPR) that proposed to initiate electronic tariff filings. Electronic Tariff Filings, 69 FR 43929 (July 23, 2004).

DATES: February 1, 2007, 10 a.m. until 4 p.m.

ADDRESSES: Federal Energy Regulatory Commission, 888 First Street, NE., Washington, DC 20426.

FOR FURTHER INFORMATION CONTACT: Keith Pierce, Office of Energy Markets and Reliability, Federal Energy Regulatory Commission, 888 First Street, NE., Washington, DC 20426, 202-502-8525, Keith.Pierce@ferc.gov.

SUPPLEMENTARY INFORMATION:

Electronic Tariff Filings

Notice of Meeting With North American Energy Standards Board

Take notice that on February 1, 2007, a conference will be held with the North American Energy Standards Board (NAESB) to discuss NAESB's assistance in the process of developing standards for electronic tariff and rate schedules filings in connection with the Notice of Proposed Rulemaking (NOPR) that proposed to initiate electronic tariff filings. Electronic Tariff Filings, 69 FR 43929 (July 23, 2004) FERC Stats. & Regs., Proposed Regulations ¶ 32,575 (July 8, 2004). This process will examine the protocols, standards, and data formats needed to provide metadata to enable the Commission to develop a database to track such filings.

The technical conference will be held from 10 a.m. until 4 p.m. (EDT) at the Federal Energy Regulatory Commission, 888 First Street, NE., Washington, DC 20426, in the Commission Meeting Room.

Information related to this conference is available on NAESB's Web site (http://www.naesb.org/etariff.asp). Background material can be found on the Commission's Web site (http://www.ferc.gov; click on eTariff under the Documents and Filings Heading). Notices of any subsequent NAESB meetings will be posted on the NAESB Web site http://www.naesb.org/etariff.asp.

The conference is open to the public to attend, and pre-registration is not required.

Conferences held at the Federal Energy Regulatory Commission are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact Keith Pierce, Office of Energy Markets and Reliability at (202) 502-8525 or Keith.Pierce@ferc.gov.

Magalie R. Salas,
Secretary.

[FR Doc. E7-1158 Filed 1-25-07; 8:45 am]

BILLING CODE 6717-01-P